ENVIRONMENTAL PROTECTION AGENCY

40 CFR Part 52

[EPA-R04-OAR-2018-0116; FRL-9987-12-Region 4]

Air Plan Approval; Georgia; Revisions To VOC Definitions and Ambient Air Quality Standards

AGENCY: Environmental Protection Agency (EPA).

ACTION: Final rule.

SUMMARY: On November 13, 2017, the State of Georgia through the Georgia Environmental Protection Division (EPD), submitted a revision to the Georgia State Implementation Plan (SIP). The Environmental Protection Agency (EPA) is approving changes to several portions of the revision that modifies the State's air quality regulations as incorporated into the SIP. Specifically, the revision pertains to definition changes, including the modification of the definition of “volatile organic compounds” (VOC) and changes to the State's air quality standards for sulfur dioxide, particulate matter, carbon monoxide, ozone, lead and nitrogen dioxide to be consistent with the National Ambient Air Quality Standard (NAAQS). EPA is approving these provisions of the SIP revision because the State has demonstrated that the changes are consistent with the Clean Air Act (CAA or Act).

DATES: This rule will be effective January 3, 2019.

ADDRESSES: EPA has established a docket for this action under Docket Identification No. EPA-R04-OAR-2018-0116. All documents in the docket are listed on the www.regulations.gov website. Although listed in the index, some information is not publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air, Pesticides and Toxics Management Division, U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Tiereny Bell, Air Regulatory Management Section, Air Planning and Implementation Branch, Pesticides and Toxics Management Division, Region 4, U.S. Environmental Protection Agency, 61 Forsyth Street SW, Atlanta, Georgia 30303-8960. The telephone number is (404) 562-9088. Ms. Bell can also be reached via electronic mail at bell.tiereny@epa.gov.

SUPPLEMENTARY INFORMATION:

I. Background

On July 17, 2018 (83 FR 33168), EPA proposed to approve into the Georgia SIP changes to Georgia's air quality rule 391-3-1-.01, “Definitions” and rule 391-3-1-.02(4), “Ambient Air Standards” submitted by the State of Georgia through the Georgia EPD on November 13, 2017. EPA's July 17, 2018, rulemaking did not propose action on Georgia's air quality rules 391-3-1-.03(6), “Exemption” under permits and rule 391-3-1-.0(7)(a)(1), “General Requirements” under Prevention of Significant Deterioration (PSD). EPA will address these changes in a separate notice. Additionally, EPA's July 17, 2018, rulemaking did not propose action on Georgia's air quality rule 391-3-1-.02(7)(a)2(ix), “Regulated NSR pollutant” under PSD, and rule 391-3-1-.03(8)(c)(16), “Additional Provisions for PM2.5 Non-attainment Areas” under permits.¹

¹ The State withdrew Rule 391-3-1-.02(7)(a)2(ix), “Regulated NSR pollutant” and Rule 391-3-1-.03(8)(c)(16), “Additional Provisions for PM2.5 Non-Attainment Areas” on December 1, 2016, and July 26, 2017, respectively. The State also acknowledges this in the response to comment of the pre-hearing in the November 13, 2017, submittal. The information is in the Docket.

The November 13, 2017, SIP revision changes Rule 391-3-1-.01, “Definitions” by adding t-Butyl acetate (also known as tertiary butyl acetate or TBAC) and 1,1,2,2-Tetrafluoro-1-(2,2,2-trifluoroethoxy) ethane to the list of organic compounds having negligible photochemical reactivity. The definition of VOC is also being updated by removing the recordkeeping requirements for t-Butyl acetate. Additionally, the definition of VOC is being revised to include chemical names to clarify previous exemptions. Lastly, the submission revises Rule 391-3-1-.02(4), “Ambient Air Standards” by updating Georgia's air quality standard to be consistent with the NAAQS. The details of the Georgia submission and the rationale for EPA's action are explained in the proposed rulemaking. Comments on the proposed rulemaking were due on or before August 20, 2018. EPA did not receive any adverse comments on the proposed action. EPA is now taking final action to approve the above-referenced revisions.

II. Incorporation by Reference

In this rule, EPA is finalizing regulatory text that includes incorporation by reference. In accordance with requirements of 1 CFR 51.5, EPA is finalizing the incorporation by reference of Georgia Rule 391-3-1-.01 entitled “Definitions,” effective July 20, 2017, which revises the VOC definition and removes the recordkeeping requirements for t-Butyl acetate. Rule 391-3-1-.02(4) entitled “Ambient Air Standards,” effective July 20, 2017, updates Georgia's air quality standard to be consistent with the NAAQS. EPA has made, and will continue to make, these materials generally available through www.regulations.gov and at the EPA Region 4 Office (please contact the person identified in the For Further Information Contact section of this preamble for more information). Therefore, these materials have been approved by EPA for inclusion in the State implementation plan, have been incorporated by reference by EPA into that plan, are fully federally enforceable under sections 110 and 113 of the CAA as of the effective date of the final rulemaking of EPA's approval, and will be incorporated by reference in the next update to the SIP compilation.²

² See 62 FR 27968 (May 22, 1997).

III. Final Action

EPA is taking final action to approve Georgia's November 13, 2017, SIP revision which amends the VOC definition in rule 391-3-1-.01, and updates Georgia's air quality standards to be consistent with the NAAQS in rule 391-3-1-.02(4). EPA has evaluated the relevant portions of Georgia's November 13, 2017, SIP revision and has determined that it meets the applicable requirements of the CAA and EPA regulations.

IV. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by February 4, 2019. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: November 15, 2018.
Onis “Trey” Glenn, III,
Regional Administrator, Region 4.

40 CFR part 52 is amended as follows:

PART 52—APPROVAL AND PROMULGATION OF IMPLEMENTATION PLANS

1. The authority citation for part 52 continues to read as follows:

Authority: 42.U.S.C. 7401 et seq.

Subpart L—Georgia

2. In § 52.570, the table in paragraph (c) is amended by revising the entries “391-3-1-.01” and “391-3-1-.02(4)” to read as follows:

§ 52.570 Identification of plan.

* * * * *

(c)* * *

EPA-Approved Georgia Regulations
State citation | Title/subject | State effective date | EPA approval date | Explanation
391-3-1-.01 | Definitions | 7/20/2017 | 12/4/2018, [insert Federal Register citation] |
* * * * * * *
Emission Standards
* * * * * * *
391-3-1-.02(4) | Ambient Air Standards | 7/20/2017 | 12/4/2018 [insert Federal Register citation] |
* * * * * * *

* * * * *

[FR Doc. 2018-26245 Filed 12-3-18; 8:45 am]

BILLING CODE 6560-50-P